DEPARTMENT OF TRANSPORTATION

Federal Aviation Administration

14 CFR Part 71

[Docket No. FAA-2022-0026; Airspace Docket No. 21-AAL-68]

RIN 2120-AA66

Amendment of United States Area Navigation (RNAV) Route T-232; Fairbanks, AK

AGENCY: Federal Aviation Administration (FAA), DOT.

ACTION: Final rule; correction.

SUMMARY: This action corrects a final rule published by the FAA in the Federal Register on August 29, 2022, that amends United States Area Navigation (RNAV) route T-232 in the vicinity of Fairbanks, AK, in support of a large and comprehensive T-route modernization project for the state of Alaska. The final rule identified the IMARE, AK, route point as a waypoint (WP), in error. This action makes an editorial correction to the references of the IMARE, AK, WP to change it to be reflected as a Fix and match the FAA's aeronautical database information.

DATES: Effective date 0901 UTC, November 3, 2022. The Director of the Federal Register approves this incorporation by reference action under 1 CFR part 51, subject to the annual revision of FAA Order 7400.11 and publication of conforming amendments.

ADDRESSES: FAA Order 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 52676; August 29, 2022), amending T-232 in support of a large and comprehensive T-route modernization project for the state of Alaska. Subsequent to publication, the FAA determined that the IMARE, AK, route point was inadvertently identified as a WP, in error. This rule corrects that error by changing the references of the IMARE, AK, WP to the IMARE, AK, Fix. This is an editorial change only to match the FAA's aeronautical database information and does not alter the alignment of the affected T-232 route.

United States Area Navigation Routes are published in paragraph 6011 of FAA Order JO 7400.11F, dated August 10, 2021, and effective September 15, 2021, which is incorporated by reference in 14 CFR 71.1. The RNAV T-route listed in this document will be published subsequently in FAA Order JO 7400.11.

Correction to Final Rule

Accordingly, pursuant to the authority delegated to me, references to the IMARE, AK, WP that are reflected in Docket No. FAA-2022-0026, as published in the Federal Register of August 29, 2022 (87 FR 52676), FR Doc. 2022-18426, are corrected as follows:

1. In FR Doc. 2022-18426, appearing on page 52676, in the third column, at line 20, correct “IMARE, AK, WP” to read “IMARE, AK, Fix”.

2. In FR Doc. 2022-18426, appearing on page 52677, in the third column, at line 25, correct “IMARE, AK WP (Lat. 64°33′29.60″ N, long. 147°17′20.31″ W)” to read “IMARE, AK FIX (Lat. 64°33′29.60″ N, long. 147°17′20.31″ W)”.

Issued in Washington, DC, on August 31, 2022.
Scott M. Rosenbloom,
Manager, Airspace Rules and Regulations.

[FR Doc. 2022-19286 Filed 9-7-22; 8:45 am]

BILLING CODE 4910-13-P